DEPARTMENT OF THE TREASURY

Submission for OMB Review; Comment Request

March 19, 2014.

The Department of the Treasury will submit the following information collection requests to the Office of Management and Budget (OMB) for review and clearance in accordance with the Paperwork Reduction Act of 1995, Public Law 104-13, on or after the date of publication of this notice.

DATES: Comments should be received on or before April 23, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0971.

Type of Review: Extension without change of a currently approved collection.

Title: Estimated Income Tax for Estates and Trusts.

Form: 1041-ES.

Abstract: Internal Revenue Code section 6654(1) imposes a penalty on trusts, and in certain circumstances, a decedent's estate, for underpayment of estimated tax. Form 1041-ES is used by the fiduciary to make the estimated tax payments. For first-time filers, the form is available in an Over The Counter (OTC) version at IRS offices. For previous filers, the form is sent to them by the IRS with preprinted vouchers in the Optical Character Resolution (OCR) version.

Affected Public: Private Sector: Businesses or other for-profits.

Estimated Annual Burden Hours: 3,161,236.

OMB Number: 1545-1631.

Type of Review: Extension without change of a currently approved collection.

Title: TD 9249—Escrow Funds and Other Similar Funds (REG-209619-93).

Abstract: The final regulations relate to the taxation and reporting of income earned on qualified settlement funds and certain other escrow accounts, trusts, and funds, and other related rules and affect qualified settlement funds, escrow accounts established in connection with sales of property, disputed ownership funds, and the parties to these escrow accounts, trusts, and funds. An election statement is filed for a qualified settlement fund (QSF) that the QSF has elected grantor trust treatment for the QSF and a statement is required from a transferor with respect to the transfer of cash or property to a disputed ownership fund.

Affected Public: Private Sector: Businesses or other for-profits.

Estimated Annual Burden Hours: 3,720.

OMB Number: 1545-1897.

Type of Review: Extension without change of a currently approved collection.

Title: TD 9145 (Final and Temporary)—Entry of Taxable Fuel; TD 9346—Entry of Taxable Fuel (Final Regulations and Removal of Temporary Regulations).

Abstract: The regulation imposes joint and several liabilities on the importer of record for the tax imposed on the entry of taxable fuel into the U.S. and revises definition of “enterer”.

Affected Public: Private Sector: Businesses or other for-profits.

Estimated Annual Burden Hours: 281.

OMB Number: 1545-2071.

Type of Review: Extension without change of a currently approved collection.

Title: TE/GE Compliance Check Questionnaires.

Abstract: Compliance questionnaires are an invaluable tool for obtaining supplemental information to determine the compliance of specific entities without the burden for the taxpayer or the cost to the IRS of a traditional, full-scale audit. The information collected will be used to improve the quality of data available for monitoring compliance, to correct identified instances of non-compliance and to determine where additional guidance, education or enforcement resources are most needed to prevent future non-compliance.

Affected Public: Private Sector: Not-for-profit institutions.

Estimated Annual Burden Hours: 37,500.

OMB Number: 1545-2182.

Type of Review: Revision of a currently approved collection.

Title: TD 9494—Affordable Care Act Internal Claims and Appeals and External review Disclosures (REG-125592-10).

Abstract: Section 2719 of the Public Health Service Act, incorporated into Code section 9815 by section 1563(f) of the Patient Protection and Affordable Care Act, Public Law 111-148, requires group health plans and issuers of group health insurance coverage, in connection with internal appeals of claims denials, to provide claimants free of charge with any evidence relied upon in deciding the appeal that was not relied on in making the initial denial of the claim. This is a third party disclosure requirement. Individuals appealing a denial of a claim should be able to respond to any new evidence the plan or issuer relies on in the appeal, and this disclosure requirement is essential so that the claimant knows of the new evidence.

Affected Public: Private Sector: Businesses or other for-profits.

Estimated Annual Burden Hours: 350.

OMB Number: 1545-2222.

Type of Review: Extension without change of a currently approved collection.

Title: VITA/TCE Volunteer Program.

Form: 8653, 8654, 13206, 13715, 14204, 14310.

Abstract: The Internal Revenue Service offers free assistance with tax return preparation and tax counseling using specially trained volunteers. The Volunteer Income Tax Assistance (VITA) and Tax Counseling for the Elderly (TCE) programs assist seniors and individuals with low to moderate incomes, those with disabilities, and those for whom English is a second language.

Affected Public: Private Sector: Not for-profit institutions; Individuals or Households.

Estimated Annual Burden Hours: 16,097.

Dawn D. Wolfgang,
Treasury PRA Clearance Officer.

[FR Doc. 2014-06385 Filed 3-21-14; 8:45 am]

BILLING CODE 4830-01-P